DEPARTMENT OF THE INTERIOR

Bureau of Reclamation

[RR02142100, XXXR5537F3, RX.198722001000000]

Notice of Intent To Prepare an Environmental Impact Statement and Public Scoping Meeting for the Friant-Kern Canal Middle Reach Capacity Correction Project, Tulare and Kern Counties, California

AGENCY: Bureau of Reclamation, Interior.

ACTION: Notice of intent; request for comments.

SUMMARY: The Bureau of Reclamation (Reclamation) intends to prepare an Environmental Impact Statement (EIS) on the Friant-Kern Canal Middle Reach Capacity Correction Project. Reclamation is requesting public and agency comment to identify significant issues or other alternatives to be addressed in the EIS.

DATES: Submit written comments on the scope of the EIS on or before January 2, 2020.

A scoping meeting will be held on December 18, 2019, 5:30 p.m. to 7:30 p.m., Porterville CA at the U.S. Forest Service Sequoia National Forest Headquarters, 1839 S. Newcomb Street, Porterville CA 93257.

ADDRESSES: Provide written scoping comments, requests to be added to the mailing list, or requests for sign language interpretation for the hearing impaired or other special assistance needs to Ms. Rain Emerson, Environmental Compliance Branch Chief, Bureau of Reclamation, South-Central California Area Office, 1243 N Street, Fresno CA 93721;

FOR FURTHER INFORMATION CONTACT: Ms. Rain Emerson, Bureau of Reclamation, South-Central California Area Office, 1243 N Street, Fresno CA 93721; telephone (559) 262-0335; facsimile (559) 262-0371; email remerson@usbr.gov. Persons who use a telecommunications device for the deaf may call the Federal Relay Service (FedRelay) at 1-800-877-8339 TTY/ASCII to contact the above individual during normal business hours or to leave a message or question after hours. You will receive a reply during normal business hours. Information on this project may also be found at: https://www.usbr.gov/mp/nepa/nepa_project_details.php?Project_ID=41341.

SUPPLEMENTARY INFORMATION: Reclamation is issuing this notice pursuant to the National Environmental Policy Act of 1969, as amended (NEPA), 42 U.S.C. 4321 et seq.; the Council on Environmental Quality's (CEQ) regulations for implementing NEPA, 43 CFR parts 1500 through 1508; and the Department of the Interior's NEPA regulations, 43 CFR part 46.

Background

A 33-mile-long section (milepost 88 to milepost 121) of the Friant-Kern Canal located within Tulare and Kern Counties referred to as the Middle Reach has lost 50 percent of its original design capacity due to regional land subsidence. This has resulted in water delivery impacts to Friant Division long-term contractors and reduces the ability of the Friant-Kern Canal to convey flood waters during wet years.

Reclamation, in partnership with the Friant Water Authority (FWA), proposes to restore the capacity of this 33-mile-long section. The proposed action includes two alternatives to address subsidence impacts: (1) A Canal Enlargement (CE) Alternative, and (2) a Canal Enlargement and Realignment (CER) Alternative. Under the CE Alternative, the entire 33-mile long section of the Middle Reach would be enlarged by widening and raising the canal banks. Under the CER Alternative, approximately 10 miles of the existing canal would be widened and raised and approximately 23 miles of the canal corridor would be realigned to newly constructed canal segments. Reclamation is proposing to provide cost-share funding for the project pursuant to the San Joaquin River Restoration Settlement Act (Pub. L. 111-11 § 10201) and the Water Infrastructure Improvement for the Nation Act (Pub. L. 114-322 § 4007).

Reclamation is not presently aware of Indian Trust Assets or environmental justice issues associated with the proposed action but requests any information relative to this issue be submitted during the scoping period.

Reclamation intends to complete an EIS for this project pursuant to NEPA to ensure consideration of potential environmental effects from implementing the proposed action. As such, Reclamation will also consider a reasonable range of alternatives that could meet the purpose for the project. Reclamation and FWA are requesting public and agency input to assist in identifying significant issues or alternatives to be addressed in the EIS.

To determine the scope of issues relevant to environmental concerns, Reclamation and the FWA prepared an environmental assessment and initial study, which is available at https://www.usbr.gov/mp/nepa/nepa_project_details.php?Project_ID=41341. Effects to certain resources were determined to be potentially significant, and effects to other resources were found to be absent or relatively minor. Reclamation will focus the EIS on analyzing the effects to resources where a potentially significant effect exists. The resources to be discussed are: Agricultural Resources, Air Quality, Biological Resources, Cultural Resources including Tribal Cultural Resources, Geology and Soils, Greenhouse Gasses and Climate Change, Hazards and Hazardous Materials including Wildfire, Hydrology and Water Quality, Land Use, Noise, Environmental Justice, Socioeconomics, Transportation, and Utilities and Service Systems. Agencies and the public are encouraged to review the environmental assessment and initial study, and provide input regarding potentially significant issues to be addressed, or to identify potential alternatives that would meet the purpose of the project.

Special Assistance for Public Scoping and Open House Meetings

If special assistance is required to participate in the public scoping meeting, please contact Ms. Rain Emerson, Bureau of Reclamation, South-Central California Area Office, 1243 N Street, Fresno CA 93721; telephone (559) 262-0335; facsimile (559) 262-0371; email remerson@usbr.gov. Persons who use a telecommunications device for the deaf may call the FedRelay at 1-800-877-8339 TTY/ASCII to contact the above individual during normal business hours or to leave a message or question after hours. You will receive a reply during normal business hours. All meeting facilities are physically accessible to people with disabilities.

Public Disclosure

Before including your address, phone number, email address, or other personal identifying information in your comment, you should be aware that your entire comment—including your personal identifying information—may be made publicly available at any time. While you may ask us in your comment to withhold your personal identifying information from public review, we cannot guarantee that we will be able to do so.

Ernest A. Conant,
Regional Director, Bureau of Reclamation, California-Great Basin—Interior Region 10.

[FR Doc. 2019-26018 Filed 11-29-19; 8:45 am]

BILLING CODE 4332-90-P